DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before September 25, 2018. Address written comments to Statutory Import Programs Staff, Room 3720, U.S. Department of Commerce, Washington, DC 20230. Applications may be examined between 8:30 a.m. and 5:00 p.m. at the U.S. Department of Commerce in Room 3720.

Docket Number: 17-019. Applicant: University of California, Berkeley, 100 Hearst Memorial Mining Building, Berkeley, CA 94720. Instrument: High Field Cryogen-Free Measurement System (CFMS) for Precision Measurement of Physical Properties. Manufacturer: Cryogenic US, LLC, United Kingdom. Intended Use: The instrument will be used to study thin films of metal-oxides for advanced oxide-based electronic devices, magnetic and electrical properties of oxide materials and devices at low temperatures and/or high magnetic fields. Angle dependent magnetoelectric properties of the devices will be explored on multiple axes. The investigations done with this instrument will lead to advancement of understanding of the properties of metal-oxide thin films and their interfaces for new generation of oxide-based microelectronic devices. Justification for Duty-Free Entry: There are no instruments of the same general category manufactured in the United States. Application accepted by Commissioner of Customs: October 5, 2017.

Dated: August 28, 2018.
Gregory W. Campbell,
Director, Subsidies Enforcement, Enforcement and Compliance.

[FR Doc. 2018-19208 Filed 9-4-18; 8:45 am]

BILLING CODE 3510-DS-P